DEPARTMENT OF THE INTERIOR

Fish and Wildlife Service

Proposed Programmatic Statewide Red-Cockaded Woodpecker Safe Harbor Agreement, Louisiana

AGENCY: Fish and Wildlife Service, Interior.

ACTION: Notice of permit application.

SUMMARY: This notice advises the public that the Louisiana Department of Wildlife and Fisheries (LDWF or Applicant) has applied to the Fish and Wildlife Service (Service) for an enhancement of survival permit pursuant to section 10(a)(1)(A) of the Endangered Species Act of 1973, as amended (Act) (16 U.S.C. 1531 et seq.). The permit application includes a proposed Safe Harbor Agreement (Agreement) for the endangered red-cockaded woodpecker, (Picoides borealis) (RCW), for a period of 99 years. If approved, the Agreement would allow the Applicant to issue Certificates of Inclusion (CI) throughout the State of Louisiana to eligible non-Federal landowners that complete an approved Safe Harbor Management Agreement (SHMA).

We announce the opening of a 30-day comment period and request comments from the public on the Applicant's permit application, the accompanying proposed Agreement, and the supporting Environmental Assessment. The Environmental Assessment identifies and describes several alternatives. All comments received, including names and addresses, will become part of the official administrative record and may be made available to the public, subject to the requirements of the Privacy Act and Freedom of Information Act. For further information and instructions on reviewing and commenting on this application, see the ADDRESSES section, below.

DATES: Written comments should be received on or before August 25, 2004.

ADDRESSES: You may obtain a copy of the information available by contacting the Service's Regional Safe Harbor Coordinator, U.S. Fish and Wildlife Service, 1875 Century Boulevard, Suite 200, Atlanta, Georgia 30345, or Field Supervisor, U.S. Fish and Wildlife Service, Ecological Services Field Office, 646 Cajundome Boulevard, Suite 400, Lafayette, Louisiana 70506. Alternatively, you may set up an appointment to view these documents at either location during normal business hours. Written data or comments should be submitted to the Atlanta, Georgia, Regional Office. Requests for the documentation must be in writing to be processed, and comments must be in writing to be considered.

FOR FURTHER INFORMATION CONTACT: Mr. Richard Gooch, Regional Safe Harbor Program Coordinator at the Service's Southeast Regional Office (see ADDRESSES above), telephone (404) 679-7124; or Mr. Troy Mallach, Fish and Wildlife Biologist, Lafayette Ecological Services Field Office (see ADDRESSES above), telephone (337) 291-3123.

SUPPLEMENTARY INFORMATION: Under a Safe Harbor Agreement, participating property owners voluntarily undertake management activities on their property to enhance, restore, or maintain habitat benefitting species listed under the Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22 and 17.32.

The LDWF's proposed state-wide Agreement is designed to encourage voluntary RCW habitat restoration or enhancement activities by relieving a landowner who enters into a landowner-specific agreement (the SHMA) from any additional responsibility under the Act beyond that which exists at the time he or she enters into the program. The SHMA will identify any existing RCWs and any associated habitat (the baseline) and will describe the actions that the landowner commits to take (e.g., hardwood midstory removal, cavity provisioning, etc.) or allows to be taken to improve RCW habitat on the property, and the time period within which those actions are to be taken and maintained. A participating landowner must maintain the baseline on his/her property (i.e., any existing RCW groups and/or associated habitat), but may be allowed the opportunity to incidentally take RCWs at some point in the future if above baseline RCWs are attracted to that site by the proactive management measures undertaken by the landowner. It is important to note that the Agreement does not envision, nor will it authorize, incidental taking of any existing RCW group with one exception. This exception is incidental taking related to a baseline shift; in this circumstance the baseline will be maintained but redrawn or shifted on that landowner's property. Among the minimization measures proposed by the Applicant are no incidental take of RCWs during the breeding season, consolidation of small, isolated RCW populations at sites capable of supporting a viable RCW population, and measures to improve current and potential habitat for the species. Further details on the topics described above are found in the aforementioned documents available for review under this notice.

The geographic scope of the Applicant's Agreement is the entire State of Louisiana, but the Agreement would only authorize the future incidental take of above-baseline RCW groups on lands for which a respective CI has been signed. Lands potentially eligible for inclusion include all privately owned lands, state lands, and public lands owned by cities, counties, and municipalities, with potentially suitable RCW habitat in Louisiana.

We have evaluated several alternatives to the proposed action and these are described at length in the accompanying Environmental Assessment. The alternative of our paying landowners for desired management practices is not being pursued because we are presently unable to fund such a program. An alternative by which interested private or nonFederal property owners would prepare an individual permit application/Agreement with us also was evaluated. Under that alternative, we would process each permit application/Agreement individually. This would increase the effort, cost, and amount of time it would take to provide safe harbor assurances to participating landowners and then such benefits would be applied on a piece-meal, individual basis. We have determined the previously identified alternatives, which would result in delays and lack of a coordinated effort, would likely result in a continued decline of the RCWs on private lands due to habitat fragmentation, lack of beneficial habitat management, and the effects of demographic isolation. A no action alternative was also explored, but this alternative is not likely to increase the number of RCW groups or RCW habitat, nor would it alleviate landowner conflicts. Instead, the action proposed here, although it authorizes future incidental take, is expected to attract sufficient interest among Louisiana landowners to generate substantial net conservation benefits to the RCW on a landscape level. The Applicant's Agreement was developed in an adaptive management framework to allow changes in the program based on new scientific information including, but not limited to, biological needs and management actions proven to benefit the species or its habitat.

We provide this notice pursuant to section 10(c) of the Endangered Species Act and pursuant to implementing regulations for the National Environmental Policy Act (40 CFR 1506.6). We will evaluate the proposed Agreement, associated documents, and comments submitted thereon to determine whether the requirements of section 10(a) of the Endangered Species Act and National Environmental Policy Act regulations have been met. If we determine that the requirements are met, we will issue an enhancement of survival permit under section 10(a)(1)(A) of the Act to the Applicant in accordance with the terms of the Agreement and specific terms and conditions of the authorizing permit. We will not make our final decision until after the end of the 30-day comment period and will fully consider all comments received during the comment period.

Dated: June 22, 2004.
Sam D. Hamilton,
Regional Director.

[FR Doc. 04-16912 Filed 7-23-04; 8:45 am]

BILLING CODE 4310-55-P